DEPARTMENT OF COMMERCE

National Oceanic and Atmospheric Administration

RIN 0648-XA198

Atlantic Highly Migratory Species; Meeting of the Atlantic Highly Migratory Species Advisory Panel

AGENCY: National Marine Fisheries Service (NMFS), National Oceanic and Atmospheric Administration (NOAA), Commerce.

ACTION: Notice of public meeting.

SUMMARY: NMFS will hold a 3-day Atlantic Highly Migratory Species (HMS) Advisory Panel (AP) meeting in April 2011. The intent of the meeting is to consider options for the conservation and management of Atlantic HMS. The meeting is open to the public.

DATES: The AP meeting will be held on April 5, 2011, through April 7, 2011.

ADDRESSES: The meeting will be held in Silver Spring, MD 20910.

FOR FURTHER INFORMATION CONTACT: Brian Parker or Margo Schulze-Haugen at (301)-713-2347.

SUPPLEMENTARY INFORMATION: The Magnuson-Stevens Fishery Conservation and Management Act, 16 U.S.C. 1801 et seq., as amended by the Sustainable Fisheries Act, Public Law 104-297, provided for the establishment of an AP to assist in the collection and evaluation of information relevant to the development of any Fishery Management Plan (FMP) or FMP amendment for Atlantic HMS. NMFS consults with and considers the comments and views of AP members when preparing and implementing FMPs or FMP amendments for Atlantic tunas, swordfish, billfish, and sharks.

The AP has previously consulted with NMFS on: Amendment 1 to the Billfish FMP (April 1999), the HMS FMP (April 1999), Amendment 1 to the HMS FMP (December 2003), the Consolidated HMS FMP (October 2006), Amendments 1, 2, and 3 to the Consolidated HMS FMP (April and October 2008, February and September 2009, and May 2010), and an Advanced Notice of the Proposed Rule (ANPR) for the future management of the shark fishery and the ANPR for Atlantic HMS published June 2009 (September 2010).

At the April 2011 AP meeting, NMFS plans to discuss Atlantic bluefin tuna management, implementation of 2010 ICCAT measures, an update on recreational monitoring methods for HMS fisheries, vessel monitoring systems and potential regulatory changes, a summary of the Future of the Shark Fishery workshops and other shark issues, and permitting and management options for swordfish and smoothhound in the trawl fisheries. The meeting may also continue discussions of other potential changes to the management of Atlantic HMS fisheries, including electronic dealer reporting, revitalizing the swordfish fishery, and items contained in the Advanced Notice of Proposed Rulemaking that published on June 1, 2009 (74 FR 26174). Information on the venue and agenda will be provided at a later date.

Special Accommodations

This meeting is physically accessible to people with disabilities. Requests for sign language interpretation or other auxiliary aids should be directed to Brian Parker at (301) 713-2347 at least 7 days prior to the meeting.

Dated: February 7, 2011.
Emily H. Menashes,
Acting Director, Office of Sustainable Fisheries, National Marine Fisheries Service.

[FR Doc. 2011-2987 Filed 2-9-11; 8:45 am]

BILLING CODE 3510-22-P